DEPARTMENT OF COMMERCE

National Oceanic and Atmospheric Administration

RIN 0648-XF388

Pacific Fishery Management Council; Public Meeting

AGENCY: National Marine Fisheries Service (NMFS), National Oceanic and Atmospheric Administration (NOAA), Commerce.

ACTION: Notice of public meeting.

SUMMARY: The Pacific Fishery Management Council (Pacific Council) will convene a meeting of its Economics and Groundfish Subcommittees of the Scientific and Statistical Committee (SSC). The meeting is open to the public.

DATES: The meeting will be held Wednesday, May 24, 2017 and Thursday, May 25, 2017, from 8:30 a.m. to 5 p.m. Pacific Standard Time or until business is completed on each day.

ADDRESSES: Watertown Hotel, Wallingford Room, 4242 Roosevelt Way NE., Seattle, WA 98105, telephone: 1-855-580-8614.

Council address: Pacific Fishery Management Council, 7700 NE Ambassador Place, Suite 101, Portland, OR 97220.

FOR FURTHER INFORMATION CONTACT: John DeVore, Staff Officer; telephone: (503) 820-2413.

SUPPLEMENTARY INFORMATION: The primary purpose of the meeting is to review draft analyses informing the Pacific Council's five-year review of the U.S. West Coast Trawl Catch Share Program. The SSC Economics and Groundfish subcommittees will conduct a review of the draft review document. The Pacific Council and its advisors will receive the report and recommendations of the SSC Economics and Groundfish subcommittees on the five-year review of the U.S. West Coast Trawl Catch Share Program at its June 7-14, 2017 meeting in Spokane, WA.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Mr. Kris Kleinschmidt (503) 820-2280 at least 10 days prior to the meeting date.

Dated: May 3, 2017.
Tracey L. Thompson,
Acting Deputy Director, Office of Sustainable Fisheries, National Marine Fisheries Service.

[FR Doc. 2017-09227 Filed 5-5-17; 8:45 am]

BILLING CODE 3510-22-P